DEPARTMENT OF EDUCATION

Office of Special Education and Rehabilitative Services Overview Information; Migrant and Seasonal Farmworkers Program

Correction

In notice document 2010-5976 beginning on page 13106 in the issue of Thursday, March 18, 2010 make the following correction:

On page 13106, in the second column, under the Applications Available: heading, in the first line, “April 2, 2010” should read “March 18, 2010”.

[FR Doc. C1-2010-5976 Filed 3-19-10; 8:45 am]

BILLING CODE 1505-01-D